DEPARTMENT OF HEALTH AND HUMAN SERVICES

National Institutes of Health

Center for Scientific Review; Amended Notice of Meeting

Notice is hereby given of a change in the meeting of the Macromolecular Structure and Function A Study Section, October 25, 2022, 08:30 a.m. to October 26, 2022, 06:00 p.m., American Inn of Bethesda, 8130 Wisconsin Ave., Bethesda, MD 20814 which was published in the Federal Register on September 22, 2022, 87 FR 57917.

This amendment was requested to change the location for the MSFA meeting. It was included on this FRN before the meeting details were edited in CMM. It needs to be processed so a second amendment can be summitted to change the location. The meeting is closed to the public.

Dated: September 30, 2022.
Miguelina Perez,
Program Analyst, Office of Federal Advisory Committee Policy.

[FR Doc. 2022-21688 Filed 10-5-22; 8:45 am]

BILLING CODE 4140-01-P